DEPARTMENT OF TRANSPORTATION

Federal Aviation Administration

14 CFR Part 145

[Docket No.: FAA-2016-8744; Amdt. No. 145-31]

RIN 2120-AK86

Repair Stations

AGENCY: Federal Aviation Administration (FAA), DOT.

ACTION: Interim final rule.

SUMMARY: The Federal Aviation Administration (FAA) is revising its repair station rules to remove the requirement that a repair station with an airframe rating provide suitable permanent housing to enclose the largest type and model aircraft listed on its operations specifications. The FAA is also revising its general housing and facilities regulation to provide that a repair station's housing for its facilities, equipment, materials, and personnel must be consistent not only with its ratings, but also with its limitations to those ratings. Finally, the FAA is adding an additional general purpose limited rating to cover maintenance work not covered by the existing 12 limited rating categories. These changes are necessary because the existing ratings and housing rules impose unnecessary housing requirements on certain repair stations that work only on component parts of an aircraft. These changes will enable some repair stations to obtain a limited rating that is tailored to their intended scope of work, and will relieve repair stations that have a limited airframe rating, but that work only on component parts of an aircraft, from having to provide large and expensive housing to enclose the entire aircraft when that type of housing is not needed for the limited scope of their work.

DATES: Effective July 27, 2016.

Submit comments on or before August 26, 2016.

ADDRESSES: Send comments identified by docket number FAA-2016-8744 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: For technical questions concerning this action, contact Susan Traugott Ludwig, Aircraft Maintenance Division, Repair Station Branch, AFS-340, Federal Aviation Administration, 800 Independence Avenue SW., Washington, DC 20591; telephone (214) 587-8887; email susan.traugott.ludwig@faa.gov.

SUPPLEMENTARY INFORMATION:

Good Cause for Final Adoption

Section 553(b)(3)(B) of the Administrative Procedures Act (APA) (5 U.S.C.) authorizes agencies to dispense with notice and comment procedures for rules when the agency for “good cause” finds that those procedures are “impracticable, unnecessary, or contrary to the public interest.” Under this section, an agency, upon finding good cause, may issue an interim final rule without seeking comment prior to the rulemaking.

The FAA finds that notice and public comment to this interim final rule are unnecessary and contrary to the public interest. The provisions in this interim final rule will remove restrictive housing language affecting repair stations that hold limited airframe ratings and perform maintenance on airframe component parts rather than the entire aircraft. This rule will also amend the limited ratings section by adding a rating that will provide certificate holders and applicants with an additional option for defining the work they actually intend to perform. The removal of the restrictive housing language and adding an additional limited rating will not adversely affect current and future certificate holders. Regarding the restrictive housing language, this change is also consistent with how this regulation has been applied in practice. In addition, the removal of the restrictive language and adding an additional limited rating will not have a negative safety impact. The language is adopted to relieve economic burdens on the repair station industry and the possibility of forced repair station closings if the amended language were to be applied literally. Therefore, the FAA has determined that notice and public comment prior to publication are unnecessary.

In addition, in accordance with 5 U.S.C. 553(d)(1), the FAA is making this interim final rule effective upon publication because it is a substantive rule that relieves a restriction.

Comments Invited

The Regulatory Policies and Procedures of the Department of Transportation (DOT), (44 FR 1134; February 26, 1979), provide that to the maximum extent possible, operating administrations for the DOT should provide an opportunity for public comment on regulations issued without prior notice. Although the FAA is inviting comments, we have made the determination to adopt this interim final rule without prior notice and public comment due to the need to expedite a resolution for repair stations that perform maintenance on airframe component parts by removing the restrictive housing requirement and providing an additional limited rating as another option.

Authority for This Rulemaking

The FAA's authority to issue rules on aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, General requirements, and section 44707, Examining and rating air agencies. Under section 44701, the FAA may prescribe equipment and facilities for, and the timing and manner of, inspecting, servicing, and overhauling of aircraft, aircraft engines, propellers, appliances and constituent parts thereof. Under section 44707, the FAA may examine and rate repair stations. This regulation is within the scope of section 44701 since it specifies the facilities required, and the regulation is within the scope of 44707 since it specifies the ratings that are held by the repair stations.

I. Background

Statement of the Problem

The FAA's rules provide for two categories of repair station ratings that define and govern which articles ¹ repair stations may work on under the part 145 regulations. These are class ratings (provided for in § 145.59) and limited ratings (provided for in § 145.61). Class ratings are broadly defined, and generally cover all articles listed in the category. Under § 145.61, however, the “FAA may issue a limited rating to a repair station that maintains or alters only a particular type of airframe, powerplant, propeller, radio, instrument, or accessory, or part thereof.” Section 145.61(b) provides that the FAA may issue limited ratings for 12 categories of aircraft articles. These are:

¹ Ref. 14 CFR 145.3, “Article” means aircraft, airframe, aircraft engine, propeller, appliance, or component part.

(1) Airframes of a particular make and model;

(2) Engines of a particular make and model;

(3) Propellers of a particular make and model;

(4) Instruments of a particular make and model;

(5) Radio equipment of a particular make and model;

(6) Accessories of a particular make and model;

(7) Landing gear components;

(8) Floats, by make;

(9) Nondestructive inspection, testing, and processing;

(10) Emergency equipment;

(11) Rotor blades, by make and model; and

(12) Aircraft fabric work.

Prior to 2001, § 145.33(b) ² listed 13 categories for which the FAA issued limited ratings. The last of these (the 13th category) covered “Any other purpose for which the Administrator finds the applicant's request is appropriate.” In the 2001 amendments, the FAA, among other things, removed the 13th category of limited ratings. Now, as before 2001, if an applicant for a repair station certificate did not want a full class rating, but wanted to work only on a particular component or component parts of an aircraft, the applicant would seek a limited rating. After that amendment became effective in 2003, if the component part or parts listed in the application were not airframe components and did not fit in one of the other 11 limited rating categories, the agency often issued a limited airframe rating anyway with the make and model of the aircraft listed on the operations specifications, and the scope of work pertaining to the component parts requested, included as a limitation. In most of these cases, the FAA did not consider the requirements in § 145.103(b) that airframe-rated repair stations must provide housing to enclose the entire aircraft because the scope of the requested work did not require the entire aircraft to be enclosed.

² The FAA amended part 145 in 2001 (66 FR 41088, August 6, 2001). The new rules became effective on April 6, 2003.

In many cases, the issuance of these ratings ran afoul of the agency's repair station housing and facilities regulations because many airframe-rated repair stations performing only component part maintenance did not provide housing that could enclose the entire aircraft listed on their operations specifications. Although these categories of repair stations could easily meet the requirements of § 145.103(a)(1) (which requires housing for the facilities, equipment, materials, and personnel consistent with the repair station's ratings) if their work was limited to working only on component parts, many did not meet the requirements of § 145.103(b). To answer the question whether the term “airframe rating” as used in § 145.103(b) contemplates a limited airframe rating, in March 2015, the FAA's Office of the Chief Counsel issued a legal interpretation concluding that a limited airframe rating is an airframe rating as the term is used in that regulation.³ The interpretation essentially stated that an airframe-rated repair station, whether limited airframe or class airframe-rated, must obtain the housing as required in § 145.103(b).

³ FAA legal interpretation to Finazzo (March 4, 2015) concluded that 14 CFR 145.103(b) requires a repair station with a limited airframe rating to have housing large enough to enclose the largest aircraft listed on its operations specifications. The opinion stated that “nothing in the regulatory history or plain language of the regulation supports a conclusion that the airframe rating of section § 145.103(b) applies only to class ratings and excludes limited airframe ratings.” See Docket No. FAA-2016-8744.

Prior to the March 2015 interpretation, some FAA offices that issued limited airframe ratings for component parts work interpreted the term airframe rating in § 145.103(b) to refer only to a class airframe rating. Thus, in those cases, the issue of requiring housing to enclose the largest aircraft on the repair station's operations specifications was never addressed. According to that reasoning, a class rating as described in § 145.59(a) would require housing large enough to enclose the entire aircraft, but a limited airframe rating provided as described in § 145.61(b)(1) would not.⁴ Consequently, if an applicant sought only a limited airframe rating for a component part(s), those FAA offices did not believe § 145.103(b) applied to those situations.

⁴ This, despite that § 145.61(b)(1) provides for a limited airframe rating for a “particular make and model” aircraft. An example could be a limited airframe rating for a Boeing Model 737 aircraft that would allow a repair station to perform maintenance on only that model aircraft and no others. In that case, the holder of that limited rating would be required to provide housing to enclose that entire aircraft. It would be an anomalous result if the holder of a class airframe rating with a Boeing 737 aircraft listed on its operations specifications were required to house the entire aircraft, but the holder of a limited airframe rating for the same aircraft were not.

Currently, many repair stations hold a limited airframe rating and do not have housing to enclose the largest type and model aircraft listed on their operations specifications. As one consequence of the above-referenced legal interpretation, some repair stations that perform maintenance on component parts only, and hold a limited airframe rating, are being advised by their local FAA offices to either obtain costly housing to enclose the largest type and model aircraft on their operations specifications, or to seek an exemption from the housing requirement. This has created an economic burden on these repair stations and a potential resource burden on the FAA to process a likely flood of petitions for exemption.

II. Overview of Interim Final Rule

To remedy the situations whereby some limited airframe-rated repair stations are not in full compliance with the housing regulation, and where, in some cases, the scope of work being performed does not technically fit within the airframe rating, this interim final rule will remove the one-size-fits-all requirement of current § 145.103(b) and provide an additional limited rating category to cover work not addressed by the existing 12 categories. These actions will assist the repair station industry by eliminating the costly housing requirement that is not necessary in many cases. In place of that housing regulation, we are adding two amendments that will address and resolve this issue.

First, the FAA is adding “and limitations” to the housing and facilities requirements in § 145.103(a)(1). With this change, the housing for a repair station's facilities, equipment, materials, and personnel must be consistent not only with its ratings, but also with the limitations to those ratings. Adding “limitations” to this regulation will assist both the repair stations and the FAA in determining a repair station's housing needs by considering the limitations associated with the rating under review. For example, a repair station with a limited powerplant rating may list a certain make and model of powerplant under its limited rating, but intend to maintain or repair only specified component parts of the engine, such as blade or vane repairs. The repair station would only need to provide housing, equipment, materials, and personnel to perform maintenance on blades and vanes if it does not perform work on the entire engine.

Second, the FAA is adding the 13th limited rating category under § 145.61(b) that was removed in the 2001 final rule. The new limited rating will allow the FAA to issue a limited rating for any other purpose for which it finds the applicant's request is appropriate. The additional limited rating is intended to be issued for repair stations that wish to perform maintenance on items such as aircraft interiors, upholstering, serving carts, cabinets, unit load devices, and other component items that do not necessarily fit into one of the 12 existing limited ratings. This action provides future certificate holders another option for ratings that will better define the type of maintenance they wish to perform. It will reduce the number of limited airframe ratings issued for component part work for which an airframe rating is not needed. In some cases, existing repair stations that hold limited airframe ratings issued for items that do not fit the category may amend their rating to the newly restored 13th limited rating, but such amendments are not required. If, however, an existing airframe-rated repair station wishes to add a non-airframe component to its operations specifications or capabilities list, it would have to apply for a limited rating in one of the other 12 categories, as appropriate.

III. Discussion of Interim Final Rule

In order to remedy the above-described problems caused by the restrictive housing requirements of § 145.103(b), the FAA is removing the text in its entirety. Removing existing § 145.103(b) provides flexibility to certificate holders and applicants with regard to the type of housing they are required to provide. Current § 145.103(c) provides that a certificated repair station may perform maintenance on articles outside of its housing if it provides suitable facilities that meet the general housing and facilities requirements of § 145.103(a) so that the work can be done in accordance with 14 CFR part 43. This paragraph is renumbered as § 145.103(b).

Although the requirement to enclose the largest type and model aircraft is no longer required, suitable housing as identified in §§ 145.101 and 145.103(a) remains applicable for all repair stations, regardless of whether they hold class or limited ratings. Section 145.101 requires, generally, that each certificated repair station “must provide housing, facilities, equipment, materials, and data that meet the applicable requirements for the issuance of the certificate and ratings the repair station holds.” Therefore, the FAA must evaluate each repair station application to assure that the housing and other requirements appropriate to the rating sought are met. In order to meet the requirements of §§ 145.101 and 145.103(a), repair stations that intend to work on an entire aircraft, or large portions of it, would still be required to provide housing that ensures appropriate protection from environmental elements for the work being performed.

The FAA is removing the introductory phrase of § 145.205(d) (“Notwithstanding the housing requirement of § 145.103(b)”) because the referenced section is being withdrawn by this rulemaking. As a result of that withdrawal, part 145 will no longer contain a specific housing regulation requiring an entire aircraft to be enclosed—rather the general requirements of §§ 145.101 and 145.103 will require housing and other protections appropriate for the work performed. Newly renumbered § 145.103(b) (formerly § 145.103(c)) permits repair stations (including those authorized to perform line maintenance under § 145.205(d)) to perform maintenance outside of its housing so long as they provide suitable facilities to adequately protect the work and personnel. Although new § 145.103(b) will still require a repair station to provide suitable facilities if the repair station works outside of its housing, the intent remains that those repair stations authorized to perform line maintenance at airport locations on the ramp outside of housing should ensure, to the extent practicable, that the work is protected from adverse elements in accordance with §§ 145.101 and 145.103.

In addition, the FAA is adding the phrase “and limitations” to the end of paragraph (1) of § 145.103(a). The section will now require that each certificated repair station must provide: “(1) Housing for the facilities, equipment, materials, and personnel consistent with its ratings and limitations.” With this change, if a repair station's scope of work is limited to work that does not require the size and type of housing that the rating without the limitation would require, the repair station would need to provide housing only sufficient to accommodate its limited scope of work.

Finally, this interim final rule adds a limited rating to § 145.61(b) that allows the FAA to issue limited ratings for any other purpose for which it finds the applicant's request is appropriate. This new rating provides applicants and existing certificate holders another option for ratings that will better define the type of maintenance they wish to perform, whether it be on component parts of an airframe, powerplant, propeller, or on any other article in the class ratings identified in § 145.59. Without this additional rating category, many repair stations could continue to be issued a limited airframe rating as a catch all rating, which does not always clearly identify the actual type of work being performed.

IV. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this interim final rule.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this rule. The reasoning for this determination follows.

Currently, § 145.103(b) states that a certificated repair station with an airframe rating must provide suitable permanent housing to enclose the largest type and model of aircraft listed on its operations specifications. This requirement is problematic for airframe rated repair stations that perform maintenance only on component parts and not the entire aircraft. Airframe-rated repair stations that do not provide the housing because they do not need it for their scope of work need to petition for an exemption from it. This rule will remove § 145.103(b) and retain the general housing and facilities requirements in §§ 145.101 and 145.103(a) and (c), which specify that each repair station must provide suitable housing consistent with its ratings. Thus this rule will remove an unnecessary burden for airframe-rated repair stations, and the costs would be minimal, as it is relieving in nature.

The FAA's review of past exemption requests prompted by the existing requirement in § 145.103(b) showed that from 2004 to the present, the agency processed 15 petitions for exemption. The FAA estimates that, on average, a petitioner spends 20 hours to prepare a petition for exemption from § 145.103(b), and the FAA takes 50 hours to process each of those petitions. According to data from the Bureau of Labor Statistics, in 2016 the mean hourly wage with benefits is $41.38 for a mechanic and supervisor. The average hourly wage for a J band FAA employee in Washington DC is $58.00. Over a twelve-year period at today's wages, the estimated savings equals 15 exemptions multiplied by 20 hours per exemption multiplied by $41.38 per hour, plus 15 exemptions multiplied by 50 hours per exemption multiplied by $58.00 per hour, which equals $56,000, or approximately $4,700 annually. This is a minimal cost; therefore, under Department of Transportation Order DOT 2100.5, the agency is not required to prepare a full regulatory evaluation.

The FAA has, therefore, determined that this rule is not a “significant regulatory action” as defined in section 3(f) of Executive Order 12866, and is not “significant” as defined in DOT's Regulatory Policies and Procedures.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration. The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

Many repair stations are small entities. Future business decisions to provide repair of aircraft components can be negatively impacted if the existing housing rule for airframe-rated repair stations remains in place. Currently each airframe-rated repair station must provide suitable permanent housing to enclose the largest type and model of aircraft listed on its operations specifications. For those airframe-rated repair stations that provide component maintenance only, and not full aircraft maintenance, the requirement to provide permanent housing for the aircraft would be very expensive and counterproductive. Most of the petitions for exemption from § 145.103(b) are from repair stations that do not work on an entire aircraft. This rule removes § 145.103(b) so that all repair stations will need to provide only the housing necessary to conduct their repair business. Thus this rule will be relieving in nature and be a benefit to small entities, albeit a small benefit. While the rule will impact a substantial number of small entities, it will not impose a significant economic impact on them.

If an agency determines that a rulemaking will not result in a significant economic impact on a substantial number of small entities, the head of the agency may so certify under section 605(b) of the RFA. Therefore, as provided in section 605(b), the head of the FAA certifies that this rulemaking will not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this rule and determined that it offers the same relieving impact on affected international repair stations.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155 million in lieu of $100 million. This rule does not contain such a mandate; therefore, the requirements of Title II of the Act do not apply.

E. Paperwork Reduction Act

The Paperwork Reduction Act of 1995 (44 U.S.C. 3507(d)) requires that the FAA consider the impact of paperwork and other information collection burdens imposed on the public. The FAA has determined that there is no new requirement for information collection associated with this interim final rule.

F. International Compatibility and Cooperation

In keeping with U.S. obligations under the Convention on International Civil Aviation, it is FAA policy to conform to International Civil Aviation Organization (ICAO) Standards and Recommended Practices to the maximum extent practicable. The FAA has determined that there are no ICAO Standards and Recommended Practices that correspond to these proposed regulations.

Harmonization. This rulemaking will not be involved in harmonization with any foreign aviation authorities.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6 and involves no extraordinary circumstances.

V. Executive Order Determinations

A. Executive Order 13132, Federalism

The FAA has analyzed this interim final rule under the principles and criteria of Executive Order 13132, Federalism. The agency determined that this action will not have a substantial direct effect on the States, or the relationship between the Federal Government and the States, or on the distribution of power and responsibilities among the various levels of government, and, therefore, does not have Federalism implications.

B. Executive Order 13211, Regulations That Significantly Affect Energy Supply, Distribution, or Use

The FAA analyzed this interim final rule under Executive Order 13211, Actions Concerning Regulations that Significantly Affect Energy Supply, Distribution, or Use (May 18, 2001). The agency has determined that it is not a “significant energy action” under the executive order and it is not likely to have a significant adverse effect on the supply, distribution, or use of energy.

C. Executive Order 13609, International Cooperation

Executive Order 13609, Promoting International Regulatory Cooperation, (77 FR 26413, May 4, 2012) promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

VI. How To Obtain Additional Information

A. Rulemaking Documents

An electronic copy of a rulemaking document may be obtained by using the Internet—

1. Search the Federal eRulemaking Portal (http://www.regulations.gov);

2. Visit the FAA's Regulations and Policies Web page at http://www.faa.gov/regulations_policies/ or

3. Access the Government Printing Office's Web page at: http://www.gpo.gov/fdsys/.

Copies may also be obtained by sending a request (identified by notice, amendment, or docket number of this rulemaking) to the Federal Aviation Administration, Office of Rulemaking, ARM-1, 800 Independence Avenue SW., Washington, DC 20591, or by calling (202) 267-9680.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the Internet, visit http://www.faa.gov/regulations_policies/rulemaking/sbre_act/.

List of Subjects in 14 CFR Part 145

Aircraft, Aviation safety, and Reporting and recordkeeping requirements.

The Amendment

In consideration of the foregoing, the Federal Aviation Administration amends chapter I of title 14, Code of Federal Regulations as follows:

PART 145—REPAIR STATIONS

1. The authority citation for part 145 continues to read as follows:

Authority: 49 U.S.C. 106(g), 40113, 44701-44702, 44707, 44709, 44717.

2. Amend § 145.61 by—

A. Removing “and” from the end of paragraph (b)(11);

B. Removing the period from the end of paragraph (b)(12) and adding “; and” in its place; and

C. Adding paragraph (b)(13).

The addition reads as follows:

§ 145.61 Limited ratings.

* * * * *

(b) * * *

(13) Any other purpose for which the FAA finds the applicant's request is appropriate.

* * * * *

3. Revise § 145.13 to read as follows:

§ 145.103 Housing and facilities requirements.

(a) Each certificated repair station must provide—

(1) Housing for the facilities, equipment, materials, and personnel consistent with its ratings and limitations.

(2) Facilities for properly performing the maintenance, preventive maintenance, or alterations of articles or the specialized service for which it is rated. Facilities must include the following:

(i) Sufficient work space and areas for the proper segregation and protection of articles during all maintenance, preventive maintenance, or alterations.

(ii) Segregated work areas enabling environmentally hazardous or sensitive operations such as painting, cleaning, welding, avionics work, electronic work, and machining to be done properly and in a manner that does not adversely affect other maintenance or alteration articles or activities;

(iii) Suitable racks, hoists, trays, stands, and other segregation means for the storage and protection of all articles undergoing maintenance, preventive maintenance, or alterations, and;

(iv) Space sufficient to segregate articles and materials stocked for installation from those articles undergoing maintenance, preventive maintenance, or alterations to the standards required by this part.

(v) Ventilation, lighting, and control of temperature, humidity, and other climatic conditions sufficient to ensure personnel perform maintenance, preventive maintenance, or alterations to the standards required by this part.

(b) A certificated repair station may perform maintenance, preventive maintenance, or alterations on articles outside of its housing if it provides suitable facilities that are acceptable to the FAA and meet the requirements of § 145.103(a) so that the work can be done in accordance with the requirements of part 43 of this chapter.

4. Amend § 145.205(d) by revising the introductory text of paragraph (d) to read as follows:

§ 145.205 Maintenance, preventive maintenance, and alterations performed for certificate holders under parts 121, 125, and 135, and for foreign persons operating a U.S.-registered aircraft in common carriage under part 129.

* * * * *

(d) The FAA may grant approval for a certificated repair station to perform line maintenance for an air carrier certificated under part 121 or part 135 of this chapter, or a foreign air carrier or foreign person operating a U.S.-registered aircraft in common carriage under part 129 of this chapter on any aircraft of that air carrier or person, provided-

* * * * *

Issued under authority provided by 49 U.S.C. 106(f), 44701(a), and 44703 in Washington, DC, on July 15, 2016.
Michael Huerta,
Administrator.

[FR Doc. 2016-17612 Filed 7-26-16; 8:45 am]

BILLING CODE 4910-13-P